ENVIRONMENTAL PROTECTION AGENCY

[ER-FRL-6696-3]

Environmental Impact Statements and Regulations; Availability oF EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in FR dated April 6, 2007 (72 FR 17156).

Draft EISs

EIS No. 20070527, ERP No. D-JUS-K80049-NV, Las Vegas Detention Facility, Proposed Contractor-Owned/Contractor-Operated Detention Facility, Implementation, Nevada Area.

Summary: EPA expressed environmental concerns about potential adverse impacts to water resources and air quality, and requested additional information on the availability of water resources, and mitigation measures to minimize air quality impacts. Rating EC2.

EIS No. 20070532, ERP No. D-BLM-L65545-ID, Three Rivers Stone Quarry Expansion Project, Proposing to Expand the Quarry Operation up to an additional 73 Acres to Increase Mine Production of Flaystone, Custer County, ID.

Summary: EPA expressed environmental concerns about impacts to air and water quality from mining operations and service roads. The final EIS should include quantitative measures to validate predictions that air and water quality standards will be met. Rating EC2.

EIS No. 20070537, ERP No. D-AFS-G65106-NM, Perk-Grindstone Fuel Reduction Project, To Protect Life, Property, and Natural Resources, Village of Ruidoso, Lincoln National Forest, Lincoln County, New Mexico.

Summary: EPA does not object to the preferred alternative. Rating LO.

EIS No. 20070540, ERP No. D-NOA-A91077-00, Amendment 1 to the Tilefish Fishery Management Plan, Proposed Individual Fishing Quota (IFQ) Program, To Reduce Overcapacity in the Commercial Tilefish Fishery, Maine to North Carolina.

Summary: EPA expressed a lack of objections to the proposed action. Rating LO.

Final EISs

EIS No. 20070354, ERP No. F-AFS-J02053-CO, Deer Creek Shaft and E Seam Methane Drainage Wells Project, Construct, Operate and Reclaim up to 137 Methane Drainage Well, Federal Coal lease, Paonia Ranger District, Grand Mesa, Uncompahgre and Gunnison National Forests, Delta and Gunnison Counties, CO.

Summary: No formal comment letter was sent to the preparing agency.

EIS No. 20070544, ERP No. F-AFS-L65531-OR, Invasive Plant Treatments within the Deschutes and Ochoco National Forests and the Crooked River National Grassland, Reduction of Invasive Plant Infestation and Protection of Uninfested Areas, Implementation, Several Cos. OR.

Summary: EPA does not object to the proposed action.

EIS No. 20080000, ERP No. F-FHW-L40213-WA, Southeast Issaquah Bypass Construction, Updated Information, New North/South Arterial Connecting Front Street with I-90 at the Sunset Interchange, Right-of-Way Permit, NPDES Permit and COE Section 404 Permit, King County, WA.

Summary: No formal comment letter was sent to the preparing agency.

EIS No. 20080023, ERP No. F-NOA-E91020-00, Snapper Grouper Fishery Amendment 15A, Proposes Management Reference Points and Rebuilding Plans for Snowy Grouper, Black Sea Bass and Red Porgy, South Atlantic Region.

Summary: EPA does not object to the proposed action.

EIS No. 20080041, ERP No. FS-AFS-L65369-00, Southwest Idaho Ecogroup Land and Resource Management Plan, Supplements the Rangeland Resource Section of the 2003 FEIS Concerning Terrestrial Management Indicator Species (MIS), Boise National Forest, Payette National Forest and Sawtooth National Forest, Forest Plan Revision, Implementation, Several Counties, ID; Malhaur County, OR, and Box Elder County, UT.

Summary: No formal comment letter was sent to the preparing agency.

Dated: February 19, 2008.
Ken Mittelholtz,
Environmental Protection Specialist, Office of Federal Activities.

[FR Doc. E8-3406 Filed 2-21-08; 8:45 am]

BILLING CODE 6560-50-P